DEPARTMENT OF THE INTERIOR

National Park Service

[N6327; NPS-WASO-NAGPRA-NPS0040518; PPWOCRADN0-PCU00RP14.R50000]

Notice of Inventory Completion: Columbia University, Department of Anthropology, New York, NY

AGENCY: National Park Service, Interior.

ACTION: Notice.

SUMMARY: In accordance with the Native American Graves Protection and Repatriation Act (NAGPRA), the Department of Anthropology at Columbia University has completed an inventory of human remains and has determined that there is a cultural affiliation between the human remains and Indian Tribes or Native Hawaiian organizations in this notice.

DATES: Repatriation of the human remains in this notice may occur on or after August 27, 2025.

ADDRESSES: Send written requests for repatriation of the human remains in this notice to Jill Shapiro, Columbia University, The Department of Anthropology, Columbia University, Schermerhorn Hall Ext. 1200 Amsterdam Avenue, New York, NY 10027, email jss19@columbia.edu.

SUPPLEMENTARY INFORMATION: This notice is published as part of the National Park Service's administrative responsibilities under NAGPRA. The determinations in this notice are the sole responsibility of the Department of Anthropology, Columbia University, and additional information on the determinations in this notice, including the results of consultation, can be found in its inventory or related records. The National Park Service is not responsible for the determinations in this notice.

Abstract of Information Available

Human remains representing, at least, one individual have been identified. No associated funerary objects are present. The skull of a single adult was found in a box during the move of the Columbia University Osteology Laboratory in the summer of 2023. This individual was previously unknown to the Department's current faculty, so it is unclear when or how they came to Columbia; the remains were not part of a known archaeological expedition. The skull of this individual was accompanied by a piece of paper with the notation “Dakota” but it is uncertain what county or state the cranium came from. Inventory research conducted in summer and fall 2024 by a professional hired jointly by the Departments of Anthropology and Ecology, Evolution, and Environmental Biology, yielded no additional information as to the origin or acquisition history of this individual. There were no associated funerary remains. To the best of our knowledge, the remains have not been treated with any potentially hazardous substances.

Cultural Affiliation

Based on the information available and the results of consultation, cultural affiliation is reasonably identified by the geographical location or acquisition history of the human remains described in this notice.

Determinations

The Department of Anthropology, Columbia University has determined that:

• The human remains described in this notice represent the physical remains of one individual of Native American ancestry.

• There is a connection between the human remains described in this notice and the Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Oglala Sioux Tribe; Rosebud Sioux Tribe of the Rosebud Indian Reservation, South Dakota; Sisseton-Wahpeton Oyate of the Lake Traverse Reservation, South Dakota; Spirit Lake Tribe, North Dakota; Standing Rock Sioux Tribe of North & South Dakota; Three Affiliated Tribes of the Fort Berthold Reservation, North Dakota; Turtle Mountain Band of Chippewa Indians of North Dakota; and the Yankton Sioux Tribe of South Dakota.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after August 27, 2025. If competing requests for repatriation are received, the Department of Anthropology, Columbia University must determine the most appropriate requestor prior to repatriation. Requests for joint repatriation of the human remains are considered a single request and not competing requests. The Department of Anthropology, Columbia University is responsible for sending a copy of this notice to the Indian Tribes and Native Hawaiian organizations identified in this notice and any other consulting parties.

Authority: Native American Graves Protection and Repatriation Act, 25 U.S.C. 3003, and the implementing regulations, 43 CFR 10.10.

Dated: July 1, 2025.
Melanie O'Brien,
Manager, National NAGPRA Program.

[FR Doc. 2025-14152 Filed 7-25-25; 8:45 am]

BILLING CODE 4312-52-P